DEPARTMENT OF COMMERCE

National Telecommunications and Information Administration

[Docket No. 011109273-1273-01]

RIN 0660-XX13

Notice, Request for Comments on Deployment of Broadband Networks and Advanced Telecommunications

Correction

In notice document 01-28784 beginning on page 57941 in the issue of Monday, November 19, 2001, make the following correction:

On page 57941, in the second column, in the DATES section, “December 14, 2001” should read, “December 19, 2001”.

[FR Doc. C1-28784 Filed 11-23-01; 8:45 am]

BILLING CODE 1505-01-D

DEPARTMENT OF DEFENSE

Department of the Army; Corps of Engineers

Availability Draft Environmental Impact Statement (DEIS) for the Greers Ferry Lake Shoreline Management Plan, Arkansas

Correction

In notice document 01-28674 beginning on page 57428 in the issue of Thursday, November 15, 2001, make the following correction:

On page 57429, in the third column, under the Commenting heading, in the last line, “pubic” should read “public”.

[FR Doc. C1-28674 Filed 11-23-01; 8:45 am]

BILLING CODE 1505-01-D

FEDERAL TRADE COMMISSION

16 CFR Part 305

Rule Concerning Disclosures Regarding Energy Consumption and Water Use of Certain Home Appliances and Other Products Required Under the Energy Policy and Conservation Act (“Appliance Labeling Rule“)

Correction

In final rule document 01-28438 beginning on page 57867 in the issue of Monday, November 19, 2001, make the following correction:

PART 305—[CORRECTED]

On page 57871, before the

Appendix A8 to Part 305

heading, insert the following instructive text: “9. Appendix A8 to Part 305 is revised to read as follows:”.

[FR Doc. C1-28438 Filed 11-23-01; 8:45 am]

BILLING CODE 1505-01-D

SECURITIES AND EXCHANGE COMMISSION

[Release No. 34-45037; File No. SR-OCC-2001-03]

Self-Regulatory Organizations; The Options Clearing Corporation; Order Granting Approval of Proposed Rule Change To Rescind Concentration Restrictions on Letters of Credit Issued by Certain Non-U.S. Institutions

Correction

In notice document 01-28489 beginning on page 57143 in the issue of Wednesday, November 14, 2001, make the following correction:

On page 57143, in the second column, the Release No. should be as set forth above.

[FR Doc. C1-28489 Filed 11-23-01; 8:45 am]

BILLING CODE 1505-01-D

SECURITIES AND EXCHANGE COMMISSION

[Release No. 34-45047; File No. SR-NASD-2001-77]

Self-Regulatory Organizations; National Association of Securities Dealers, Inc.; Notice of Filing and Order Granting Accelerated Approval of Proposal To Permit SuperSOES To Trade Through the Quotations of UTP Exchanges That Do Not Participate in the Nasdaq National Market Execution Service

November 8, 2001.

Correction

In notice document 01-28587 beginning on page 57496 in the issue of Thursday, November 15, 2001, make the following correction:

On page 57496, in the third column, the Release No. should be as set forth above.

[FR Doc. C1-28587 Filed 11-23-01; 8:45 am]

BILLING CODE 1505-01-D

DEPARTMENT OF THE TREASURY

Office of Thrift Supervision

12 CFR Part 560

[No. 2001-67]

RIN 1550-AB37

Lending and Investment

Correction

In proposed rule document 01-27329 beginning on page 55131 in the issue of Thursday, November 1, 2001, make the following correction:

§560.42 [Corrected]

On page 55138, in the table for § 560.42, in the first column, entries (2) and (3) should read as follows:

“(2) Other obligations of a governmental entity (e.g., revenue bonds) that hold one of the four highest investment grade ratings by a nationally recognized rating agency or that are nonrated but of investment quality”.

“(3) Obligations of a governmental entity that do not qualify under any other paragraph but are approved by your Regional Director”.

[FR Doc. C1-27329 Filed 11-23-01; 8:45 am]

BILLING CODE 1505-01-D